DEPARTMENT OF TRANSPORTATION

Surface Transportation Board

[Finance Docket No. 34079]

San Jacinto Rail Limited—Construction Exemption—And The Burlington Northern and Santa Fe Railway Company—Operation Exemption—Build-Out to the Bayport Loop Near Houston, Harris County, TX

AGENCIES: Lead: Surface Transportation Board. Cooperating: U.S. Coast Guard, Federal Aviation Administration, National Aeronautics and Space Administration.

ACTION: Extension of comment period for the Draft Environmental Impact Statement.

SUMMARY: Comments on the Draft Environmental Impact Statement (Draft EIS) issued by the Surface Transportation Board's Section of Environmental Analysis (SEA) and the three cooperating agencies on December 6, 2002 in this proceeding were to be submitted by January 27, 2003. In response to a number of written requests for an extension of the comment period, SEA is advising all interested persons that the comment period will be extended for an additional twenty-five days. The comment period will now end February 21, 2003.

Most of the extension requests sought an additional forty-five days to submit comments on the Draft EIS. To balance these requests for an extension with the need to move the environmental review process forward without undue delay, SEA believes that a twenty-five day extension to and including February 21, 2003 is appropriate. In order to issue the Final EIS in a timely manner, no further extensions will be granted absent compelling, unforeseen circumstances.

Written comments on the Draft EIS must be postmarked or faxed by the February 21, 2003 due date. SEA encourages written comments by all interested parties and agencies and members of the general public on all aspects of this Draft EIS. SEA will consider all timely comments in preparing the Final EIS, and the Final EIS will respond to all timely substantive comments. When submitting comments on the Draft EIS, please be as specific as possible and substantiate your concerns and recommendations. Please mail written comments to: Surface Transportation Board, 1925 K Street, NW., Washington, DC 20423-0001.

To ensure proper handling of your comments, please mark your submission: Attention: Dana White, Section of Environmental Analysis, Environmental Filing FD No. 34079.

Due to delays in the delivery of mail currently being experienced by Federal agencies in Washington, DC, SEA encourages that comments be faxed to 1-866-293-4979. Faxed comments will be given the same weight as mailed comments; therefore, persons submitting comments by fax do not have to also send comments by mail. Further information about the project can be obtained by calling SEA's toll-free number at 1-888-229-7857 (TDD for the hearing impaired 1-800-877-8339).

As stated in our December 6, 2002 Notice of Availability, and in the Draft EIS, SEA will host two public meetings on the Draft EIS in January 2003. At each meeting, SEA will give a brief presentation and interested parties will be invited to make oral comments. SEA will have a transcriber present to record the oral comments in either English or Spanish. Written comments may also be submitted at the meetings. Meetings will be held at the following locations, dates, and times: Pasadena Convention Center, 7902 Fairmont Parkway, Pasadena, TX, January 14, 2003, 7-9 pm, Cesar E. Chavez High School, 8501 Howard Drive, Houston, TX, January 15, 2003, 7-9 pm. Both meetings will follow the same format and agenda; it is not necessary to attend both meetings.

Persons wanting to speak at a public meeting are strongly urged to pre-register by calling the toll-free number at 1-888-229-7857 (TDD for the hearing impaired 1-800-877-8339) and leaving their name, telephone number, the name of any group, business, or agency affiliation, if applicable, and the date of the meeting at which they wish to speak. The deadline for pre-registration for all meetings is January 7, 2003.

Persons will be called to speak at each meeting in the order in which they pre-registered. Those wishing to speak who did not pre-register will be accommodated at each meeting as time allows. Those wishing to speak at more than one meeting will also be accommodated as time allows and after all others have had an opportunity to participate. As SEA would like as many persons as possible to participate and given that there will be a limited amount of time at each meeting, all speakers are strongly encouraged to prepare summary oral comments, and submit detailed comments in writing. SEA also encourages groups of individuals with similar comments to designate a representative to speak for them. A translator will be available at both meetings for Spanish-speakers wishing to speak.

FOR FURTHER INFORMATION CONTACT: Ms. Dana White, Section of Environmental Analysis, Surface Transportation Board, 1925 K Street, NW., Washington, DC 20423-0001, or SEA's toll-free number for this project at 1-888-229-7857 (TDD for the hearing impaired 1-800-877-8339). The website for the Surface Transportation Board is http://www.stb.dot.gov.

By the Board, Victoria J. Rutson, Chief, Section of Environmental Analysis.
Vernon A. Williams,
Secretary.

[FR Doc. 02-32078 Filed 12-19-02; 8:45 am]

BILLING CODE 4915-00-P